DEPARTMENT OF DEFENSE

Office of the Secretary

Department of Defense Wage Committee (DoDWC); Notice of Federal Advisory Committee Meeting

AGENCY: Under Secretary of Defense for Personnel and Readiness, Department of Defense (DoD).

ACTION: Notice of closed Federal Advisory Committee meeting.

SUMMARY: The DoD is publishing this notice to announce that the following Federal Advisory Committee meeting of the DoDWC will take place.

DATES: Tuesday, September 21, 2021 from 10:00 a.m. to 11:00 a.m. and will be closed to the public.

ADDRESSES: The closed meeting will be held by teleconference.

FOR FURTHER INFORMATION CONTACT: Mr. Karl Fendt, (571) 372-1618 (voice), karl.h.fendt.civ@mail.mil. (email), 4800 Mark Center Drive, Suite 05G21, Alexandria, Virginia 22350 (mailing address).

SUPPLEMENTARY INFORMATION: Meeting Announcement: Due to circumstances beyond the control of the Department of Defense and the Designated Federal Officer for the DoDWC, the DoDWC was unable to provide public notification required by 41 CFR 102-3.450(a) concerning its September 21, 2021 meeting. Accordingly, the Advisory Committee Management Officer for the Department of Defense, pursuant to 41 CFR 102-3.150(b), waives the 15-calendar day notification requirement.

This meeting is being held under the provisions of the Federal Advisory Committee Act (FACA) (5 U.S.C., Appendix), the Government in the Sunshine Act (5 U.S.C. 552b), and 41 CFR 102-3.140 and 102-3.150.

Purpose of the Meeting: The purpose of this meeting is to provide independent advice and recommendations on matters relating to the conduct of wage surveys and the establishment of wage schedules for all appropriated fund and non-appropriated fund areas of blue-collar employees within the DoD.

Agenda

Reviewing survey results and/or survey specifications for the following Nonappropriated Fund areas:

1. Any items needing further clarification or action from the previous agenda.

2. Wage Schedule (Wage Change) for the Washington, District of Columbia wage area (AC-124).

3. Wage Schedule (Wage Change) for the Prince William, Virginia wage area (AC-126).

4. Wage Schedule (Wage Change) for the Charles-St. Mary's, Maryland wage area (AC-128).

5. Wage Schedule (Wage Change) for the Anne Arundel, Maryland wage area (AC-147).

Reviewing survey results and/or survey specifications for the following Appropriated Fund areas:

6. Wage Schedule (Full Scale) for the Utah wage area (AC-139).

7. Wage Schedule (Full Scale) for the Spokane, Washington wage area (AC-145).

8. Wage Schedule (Wage Change) for the Charleston, South Carolina wage area (AC-119).

9. Any items needing further clarification from this agenda may be discussed during future scheduled meetings.

Meeting Accessibility: Pursuant to 5 U.S.C. 552b(c)(4), the Department of Defense has determined that the meeting shall be closed to the public. The Under Secretary of Defense for Personnel and Readiness, in consultation with the Department of Defense Office of General Counsel, has determined in writing that this meeting may disclose trade secrets and commercial or financial information obtained from a person and privileged or confidential.

Written Statements: Pursuant to section 10(a)(3) of the Federal Advisory Committee Act and 41 CFR 102-3.140, interested persons may submit written statements to the Designated Federal Officer for the DoDWC at any time. Written statements should be submitted to the Designated Federal Officer at the email or mailing address listed above in the FOR FURTHER INFORMATION CONTACT. If statements pertain to a specific topic being discussed at a planned meeting, then these statements must be submitted no later than five (5) business days prior to the meeting in question. Written statements received after this date may not be provided to or considered by the DoDWC until its next meeting. The Designated Federal Officer will review all timely submitted written statements and provide copies to all the committee members before the meeting that is the subject of this notice.

Dated: September 14, 2021.
Aaron T. Siegel,
Alternate OSD Federal Register Liaison Officer, Department of Defense.

[FR Doc. 2021-20204 Filed 9-17-21; 8:45 am]

BILLING CODE 5001-06-P